DEPARTMENT OF TRANSPORTATION

Federal Railroad Administration

[Docket Number FRA-2003-15638]

Petition for Expansion of Waiver of Compliance

Under part 211 of title 49 Code of Federal Regulations (CFR), this document provides the public notice that by letter dated March 8, 2023, Long Island Rail Road (LIRR) petitioned the Federal Railroad Administration (FRA) for an expansion of a waiver of compliance from certain provisions of the Federal railroad safety regulations contained at 49 CFR part 238 (Passenger Equipment Safety Standards). The relevant Docket Number is FRA-2003-15638.

Specifically, LIRR requests to expand its relief from § 238.303(e)(15)(i)(C), which states that multiple unit (MU)-type locomotives equipped with dynamic brakes that become defective, “shall be repaired or removed from service by or at the locomotive's next exterior calendar day mechanical inspection.” LIRR's existing relief applies to its fleet of M7 locomotives, which has multiple propulsion inverters. LIRR seeks to expand the relief to include its fleet of M9 locomotives, as LIRR states that the “IGBT inverter-controlled propulsion system of the M9 is similar to that of the M7 with an additional layer of redundancy.” LIRR explains that the arrangement of the pneumatic braking on the M9 locomotives “limits thermal stresses on the wheels and provides the same braking performance even when dynamic braking is not available.” LIRR requests that as the current waiver provides relief on a per-axle basis and considers two dead brake trucks on an M7 train to be the equivalent of a dead locomotive, the requirement be four dead axles on an M9 train to be considered the same. In support of its request, LIRR states that in the 19 years of relief, “LIRR has had no reports of a slow or poorly braking train related to inactive inverters.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by June 6, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-07323 Filed 4-6-23; 8:45 am]

BILLING CODE 4910-06-P